DEPARTMENT OF TRANSPORTATION

Federal Aviation Administration

Office of Commercial Space Transportation: Notice of Availability, Notice of Public Comment Period, and Request for Comment on the Draft Environmental Assessment for the Shuttle Landing Facility Launch Site Operator License

AGENCY: The Federal Aviation Administration (FAA), Department of Transportation (DOT) is the lead agency. The National Aeronautics and Space Administration (NASA), U.S. Air Force, U.S. Fish and Wildlife Service (USFWS), and National Park Service (NPS) are cooperating agencies for this Environmental Assessment (EA) due to their special expertise and jurisdictions (40 CFR 1508.15 and 1508.26).

ACTION: Notice of availability, notice of public comment period, and request for comment.

SUMMARY: The FAA is announcing the availability of and requesting comments on the Draft EA for the Shuttle Landing Facility (SLF) Launch Site Operator License. The FAA has prepared the Draft EA to evaluate the potential environmental impacts of the FAA issuing a Launch Site Operator License to Space Florida for the operation of a commercial space launch site at the SLF. Under the proposed action, Space Florida would construct facilities related to the proposed launch site and operate a commercial space launch site at the SLF to conduct launches of horizontal takeoff and horizontal landing launch vehicles from the SLF. The Draft EA considers the potential environmental impacts of the Proposed Action and the No Action Alternative.

DATES: Comments must be received on or before September 17, 2018.

ADDRESSES: Please submit comments or questions regarding the Draft EA to Shuttle Launching Facility Environmental Assessment, Attn. Pete Eggert, 505 Odyssey Way, Suite 300, Exploration Park, FL 32953. Comments may also be submitted by email to PEggert@spaceflorida.gov.

FOR FURTHER INFORMATION CONTACT: Ms. Stacey M. Zee, Environmental Protection Specialist, Federal Aviation Administration, 800 Independence Avenue SW, Suite 325, Washington, DC 20591; email Stacey.Zee@faa.gov.

SUPPLEMENTARY INFORMATION: The FAA has prepared the Draft EA in accordance with the National Environmental Policy Act of 1969 (NEPA; 42 United States Code 4321 et seq.), the Council on Environmental Quality Regulations for Implementing the Procedural Provisions of NEPA (40 Code of Federal Regulations parts 1500-1508), and FAA Order 1050.1F, Environmental Impacts: Policies and Procedures, as part of its licensing process. Concurrent with the NEPA process and to determine the potential effects of the Proposed Action on historic and cultural properties, the FAA has initiated Section 106 Consultation with the Florida State Historic Preservation Office and the following Native America tribes: Catawba Indian Nation, Chitimacha Tribe of Louisiana, Coushatta Tribe of Louisiana, Eastern Band of Cherokee Indians, Jena Band of Choctaw Indians, Miccosukee Tribe of Indians of Florida, Muscogge (Creek) Nation, Poarch Band of Creek Indians, Seminole Nation of Oklahoma, and Seminole Tribe of Florida. The FAA has also consulted with the USFWS under Section 7 of the Endangered Species Act regarding potential impacts on federally-listed threatened and endangered species. Pursuant to the U.S. Department of Transportation Act of 1966, this EA will comply with the requirements of Section 4(f) of the Act.

An electronic version of the Draft EA is available on the FAA Office of Commercial Space Transportation website at: https://www.faa.gov/about/office_org/headquarters_offices/ast/environmental/nepa_docs/review/documents_progress/space_florida/.

The FAA encourages all interested agencies, organizations, Native American tribes, and members of the public to submit comments concerning the analysis presented in the Draft EA by September 17, 2018. Comments should be as specific as possible and address the analysis of potential environmental impacts. Reviewers should organize their participation so that it is meaningful and makes the agency aware of the viewer's interests and concerns using quotations and other specific references to the text of the Draft EA and related documents. Matters that could have been raised with specificity during the comment period on the Draft EA may not be considered if they are raised for the first time later in the decision process. This comment procedure is intended to ensure that substantive comments and concerns are made available to the FAA in a timely manner so that the FAA has an opportunity to address them.

Before including your address, phone number, email address, or other personal identifying information in your comment, be advised that your entire comment—including your personal identifying information—may be made publicly available at any time. While you can ask us in your comment to withhold from the public review your personal identifying information, we cannot guarantee that we will be able to do so.

The FAA has prepared the Draft EA to evaluate the potential environmental impacts of the construction and operation of the SLF as a launch location for horizontally launched and landed launch vehicles and issuing a Launch Site Operator License to Space Florida at the SLF. The EA considers the potential environmental impacts of the Proposed Action and the No Action Alternative. The successful completion of the environmental review process does not guarantee that the FAA Office of Commercial Space Transportation would issue a Launch Site Operator License to Space Florida. The project must also meet all FAA requirements of a Launch Site Operator License. Individual launch operators proposing to launch from the site would be required to obtain a separate launch operator license.

The Proposed Action is for Space Florida to construct facilities related to the proposed launch site and for the FAA to issue a Launch Site Operator License to Space Florida for the operation of a commercial space launch site at the SLF. The Proposed Action would also allow Space Florida to offer the commercial space launch site at the SLF to commercial space operators to support their application to acquire a launch license or experimental permit (when their operations match those described and assessed within this EA) to allow them to conduct horizontal launches and horizontal landings of launch vehicles at the SLF. The alternatives under consideration include the Proposed Action and the No Action Alternative. Under the No Action Alternative, the FAA would not issue a Launch Site Operator License to Space Florida.

Issued in Washington, DC, on August 17, 2018.
Daniel Murray,
Manager, Space Transportation Development Division.

[FR Doc. 2018-18252 Filed 8-22-18; 8:45 am]

BILLING CODE 4910-13-P